DEPARTMENT OF AGRICULTURE

Rural Utilities Service

Cardinal-Hickory Creek 345-kv Transmission Line Project

AGENCY: Rural Utilities Service, USDA.

ACTION: Notice of availability of a Final Environmental Impact Statement.

SUMMARY: Notice is hereby given that the Rural Utilities Service (RUS) has prepared a Final Environmental Impact Statement (EIS) to meet its responsibilities under the National Environmental Policy Act (NEPA) and the Code of Federal Regulations related to providing financial assistance to Dairyland Power Cooperative (DPC) for its share in the construction of a proposed 345-kilovolt (kV) transmission line and associated infrastructure connecting the Hickory Creek Substation in Dubuque County, Iowa, with the Cardinal Substation in the Town of Middle, Wisconsin (near Madison, Wisconsin). The Project also includes a new intermediate 345/138-kV substation near the Village of Montfort in either Grant County or Iowa County, Wisconsin. The total length of the 345-kV transmission lines associated with the proposed project will be approximately 100 to 125 miles, depending on the final route. DPC, along with the two other project participant utilities, American Transmission Company LLC, and ITC Midwest LLC (together the Utilities) have identified proposed and alternate segments and locations for transmission lines and associated facilities and for the intermediate substation. DPC is requesting RUS to provide financing for its portion of the proposed project.

DATES: Written comments on this Final EIS will be accepted no later than 30 days following the publication of the U.S. Environmental Protection Agency's notice of receipt of the Final EIS in the Federal Register.

ADDRESSES: A copy of the Final EIS may be viewed online at the following website: https://www.rd.usda.gov/publications/environmental-studies/impact-statements/cardinal-%E2%80%93-hickory-creek-transmission-line.

A hard copy of the Final EIS is available for review at Dairyland Power Cooperative, 3521 East Avenue, South, La Crosse, WI 54602 and at 13 local libraries in the project area and the USFWS McGregor District Office in Prairie du Chien, WI which are listed below.

Library | Address
Allen-Dietzman Public Library | 220 W Barber Avenue, Livingston, WI 53554.
Barneveld Public Library | 107 W Orbison Street, Barneveld, WI 53507.
Dodgeville Public Library | 139 S Iowa Street, Dodgeville, WI 53533.
Dubuque County Library, Asbury Branch | 5290 Grand Meadow Drive, Asbury, IA 52002.
Eckstein Memorial Library | 1034 E Dewey Street, Cassville, WI 53806.
Guttenberg Public Library | 603 S 2nd Street, Guttenberg, IA 52052.
Middleton Public Library | 7425 Hubbard Avenue, Middleton, WI 53562.
Montfort Public Library | 102 E Park Street, Montfort, WI 53569.
Mount Horeb Public Library | 105 Perimeter Road, Mount Horeb, WI 53572.
Platteville Public Library | 65 S Elm Street, Platteville, WI 53818.
Potosi Branch Library | 103 N Main Street, Potosi, WI 53820.
Rosemary Garfoot Public Library | 2107 Julius Street, Cross Plains, WI 53528.
Schreiner Memorial Library | 113 W Elm Street, Lancaster, WI 53813.
USFWS McGregor District Office | 470 Cliff Haven Road, Prairie du Chien, WI 53821.

FOR FURTHER INFORMATION CONTACT: To obtain copies of the Final EIS or for further information, contact: Dennis Rankin, Environmental Protection Specialist, USDA, Rural Utilities Service, 1400 Independence Avenue SW, Room 2244, Stop 1571, Washington, DC 20250-1571, by phone at (202) 720-1953 or email Dennis.Rankin@usda.gov.

SUPPLEMENTARY INFORMATION: RUS is the lead agency for the federal environmental review with U.S. Fish and Wildlife Service (USFWS), U.S. Army Corps of Engineers (USACE), and the U.S. Environmental Protection Agency (USEPA) serving as cooperating agencies, and the National Park Service (NPS) as a participating agency.

The purpose of the proposed project is to: (1) Address reliability issues on the regional bulk transmission system, (2) alleviate congestion that occurs in certain parts of the transmission system and remove constraints that limit the delivery of power, (3) expand the access of the transmission system to additional resources, (4) increase the transfer capability of the electrical system between Iowa and Wisconsin, (5) reduce the losses in transferring power and increase the efficiency of the transmission system, and (6) respond to public policy objectives aimed at enhancing the nation's transmission system and to support the changing generation mix.

The Final EIS addresses the construction and operation of the proposed project, which, in addition to the 345-kV transmission line and associated infrastructure, includes the following facilities:

• At the existing Cardinal Substation in Dane County, Wisconsin: A new 345-kV terminal within the substation;

• At the proposed Hill Valley Substation near the Village of Montfort, Wisconsin: An approximately 22-acre facility with five 345-kV circuit breakers, one 345-kV shunt reactor, one 345-/138-kV autotransformer, three 138-kV circuit breakers, and a 345-kV and 138-kV terminals;

• At the existing Eden Substation near the village of Montfort, Wisconsin: Transmission line protective relaying upgrades to be compatible with new productive relays installed at the new Hill Valley Substation and replacement of conductors and switches to meet the Utilities' operating limits;

• Between the existing Eden Substation and the proposed Hill Valley Substation near the village of Montfort, Wisconsin: A rebuild of the approximately 1 mile Hill Valley to Eden 138-kV transmission line;

• At the existing Wyoming Valley Substation near Wyoming, Wisconsin: Installation of nine 16-foot ground rods to mitigate fault current contributions from the proposed project;

• At either the Lancaster or Hillman substation, depending on the final route, equipment installation to use the optical ground wire that would be part of the C-HC Project;

• Between the existing Cardinal Substation and the proposed Hill Valley Substation: A new 50- to 53-mile (depending on the final route) 345-kV transmission line;

• Between the proposed Hill Valley Substation and existing Hickory Creek Substation: A new 50- to 70-mile (depending on the final route) 345-kV transmission line;

• At the Mississippi River in Cassville, Wisconsin: A rebuild and possible relocation of the existing Mississippi River transmission line crossing to accommodate the new 345-kV transmission line and Dairyland's 161-kV transmission line, which would be capable of operating at 345-/345-kV but will initially be operated at 345-/161-kV;

○ depending on the final route and the Mississippi River crossing location:

• A new 161-kV terminal and transmission line protective relaying upgrades within the existing Nelson Dewey Substation in Cassville, Wisconsin;

• a replaced or reinforced structure within the Stoneman Substation in Cassville, Wisconsin;

• Multiple, partial, or complete rebuilds of existing 69-kV, 138-kV, and 161-kV transmission lines in Wisconsin that would be collocated with the new 345-kV line;

• At the existing Turkey River Substation in Clayton County, Iowa: One new 161-/69-kV transformer, three new 161-kV circuit breakers, and four new 69-kV circuit breakers;

• At the completion of the C-HC Project construction and energization at the Turkey River Substation, Dairyland would retire and decommission approximately 2.8 miles of the existing N-9 transmission line (69-kV); and

• At the existing Hickory Creek Substation in Dubuque County, Iowa: A new 345-kV terminal within the existing Hickory Creek Substation.

Among the alternatives addressed in the Final EIS is the No Action alternative, under which the proposed project would not be undertaken. Additional alternatives addressed in the Final EIS include six action alternatives connecting the Cardinal Substation in Wisconsin with the Hickory Creek Substation in Iowa. RUS has carefully studied public health and safety, environmental impacts, and engineering aspects of the proposed project.

RUS used input provided by government agencies, private organizations, and the public in the preparation of the Final EIS. RUS has considered all comments received on the Draft EIS and revised the EIS accordingly. Following the 30-day comment period for the Final EIS, RUS will prepare a Record of Decision (ROD). A Notice announcing the availability of the ROD will be published in the Federal Register and in local newspapers. Additionally, letters and emails will be sent to stakeholders.

In accordance with Section 106 of the National Historic Preservation Act and its implementing regulation, “Protection of Historic Properties” (36 CFR 800) and as part of its broad environmental review process, RUS must take into account the effect of the proposed project on historic properties. Pursuant to 36 CFR 800.2(d)(3), RUS is using its procedures for public involvement under NEPA to meet its responsibilities to solicit and consider the views of the public during Section 106 review. Any party wishing to participate more directly with RUS as a “consulting party” in Section 106 review may submit a written request to the RUS contact provided in this notice.

The proposed project involves unavoidable impacts to wetlands and floodplains; this Notice of Availability also serves as a statement of no practicable alternatives to impacts on wetlands and floodplains, in accordance with Executive Orders 11990 and 11988, respectively (see Final EIS Sections 3.3 and 3.5).

Any final action by RUS related to the proposed project will be subject to, and contingent upon, compliance with all relevant Federal, State and local environmental laws and regulations, and completion of the environmental review requirements as prescribed in the RUS Environmental Policies and Procedures (7 CFR 1970).

Christopher A. Mclean,
Assistant Administrator, Electric Programs, Rural Utilities Service.

[FR Doc. 2019-23049 Filed 10-22-19; 8:45 am]

BILLING CODE 3410-15-P